Proclamation 8078 of October 30, 2006

National Family Caregivers Month, 2006

By the President of the United States of America

A Proclamation

Our country is blessed to have millions of compassionate citizens who bring love and support to family members and friends who are chronically ill, elderly, or disabled. During National Family Caregivers Month, we recognize these kind individuals who give of their hearts, resources, and energy to assist loved ones in need.

Family caregivers exemplify the true spirit of compassion by providing support to their loved ones and assisting with their everyday activities and special needs. These selfless people must often make great personal sacrifices to maintain the care and support their family and friends require. Their assistance provides those who may be ill, aging, or disabled an opportunity to stay in familiar surroundings and remain a part of their community.

My Administration is committed to supporting family caregivers and their vital role in our Nation's communities. The National Family Caregiver Support Program continues to provide information, counseling, and services and encourages cooperation among agencies and other providers that work with caregivers. These efforts assist caregivers and help ensure that all Americans receive the care they need.

As we observe National Family Caregivers Month, we honor family caregivers who take time out of their lives to improve the lives of family and friends. Their efforts demonstrate the best of the American spirit.

NOW, THEREFORE, I, GEORGE W. BUSH, President of the United States of America, by virtue of the authority vested in me by the Constitution and laws of the United States, do hereby proclaim November 2006 as National Family Caregivers Month. I encourage all Americans to honor the selfless service of caregivers who support their loved ones in need.

IN WITNESS WHEREOF, I have hereunto set my hand this thirtieth day of October, in the year of our Lord two thousand six, and of the Independence of the United States of America the two hundred and thirty-first.

[FR Doc. 06-9063

Filed 11-1-06; 8:45 am]

Billing code 3195-01-P